DEPARTMENT OF HEALTH AND HUMAN SERVICES

Substance Abuse and Mental Health Services Administration

Grant Programs Technical Assistance Workshops; Notice of Meetings

AGENCY: Center for Substance Abuse Treatment (CSAT), Substance Abuse and Mental Health Services Administration (SAMHSA), HHS.

ACTION: Notice of Technical Assistance Sessions for Potential Applicants for the SAMHSA/CSAT Grant Program: TI 00-004—“Cooperative Agreement to Bridge the Gap: Phase II Implementation of Community-Based Practice/Research Collaboratives.

Notice is hereby given for the following technical assistance sessions to be provided to prospective applicants for SAMHSA/CSAT Guidance for Applicants (GFA) TI 00-004. The text of the grant announcement can be downloaded from the SAMHSA Web Site at www.samhsa.gov or ordered from the National Clearinghouse for Alcohol and Drug Information (NCADI) at (800) 729-6686.

The technical assistance sessions will be held as follows: Session I—April 5, 2000, 1-3 p.m., 7th Floor Conference Room, Rockwall II Building, Center for Substance Abuse Treatment, 5515 Security Lane, Rockville, MD 20852; Session II—April 12, 2000, 3-5 p.m., Hilton New Orleans Riverside, New Orleans, LA. Each two-hour session will follow the following format: (1) Presentation of the key components of the GFA, and (2) question and answer session.

Potential applicants are strongly encouraged to review the grant announcement prior to attending a technical assistance session to determine if they meet the capability criteria listed below for the implementation phase. Applications may be submitted by domestic public and private non-profit and for-profit entities such as community-based organizations, public or private universities, colleges, and hospitals, and units of State or local government. In order to accomplish the goals of the Phase II PRC Implementation Program, applicants are required to have met the following criteria: (1) An operational, community based PRC has been established in which providers participate as full partners with researchers, policy makers and other stakeholder groups; (2) a formal organizational structure and statement of operating procedures, roles and responsibilities of stakeholder members and designated consumer representative has been developed and endorsed by stakeholder groups; (3) a formal needs assessment of PRC stakeholders has been conducted and utilized to establish a consensus based research and knowledge application agenda and implementation plan; and (4) stakeholders have endorsed the implementation plan.

There is no registration fee for the sessions. Preregistration is encouraged. Registrants are responsible for costs associated with their own travel, meals and lodging. To preregister and for logistical assistance, please contact Un Lee, Tascon, Inc., (301) 315-9000. Session confirmation will be faxed.

Dated: March 21, 2000.
Richard Kopanda,
Executive Officer, SAMHSA.

[FR Doc. 00-7545 Filed 3-27-00; 8:45 am]

BILLING CODE 4162-20-P